DEPARTMENT OF TRANSPORTATION

Office of the Secretary

Notice of Applications for Certificates of Public Convenience and Necessity and Foreign Air Carrier Permits Filed Under Subpart B (Formerly Subpart Q) During the Week Ending July 13, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-28724.

Date Filed: July 10, 2007.

Due Date for Answers, Conforming Applications, or Motion to Modify Scope: July 31, 2007.

Description: Application of Air Molokai Nui, Inc., requesting authority to operate scheduled passenger service as a commuter air carrier.

Docket Number: OST-2007-28728.

Date Filed: July 10, 2007.

Due Date for Answers, Conforming Applications, or Motion to Modify Scope: July 31, 2007.

Description: Application of Alitalia Linee Aeree Italiane S.p.A. (“Alitalia”), requesting an amendment to its foreign air carrier permit to the full extent authorized by the new Air Transport Agreement between the United States, on the one hand, and the European Union and the member states of the European Union, on the other hand (“U.S.-E.U. Agreement”), to enable Alitalia to engage in: (i) Foreign scheduled and charter air transportation of persons, property, and mail from any point or points behind any member state of the European Union via any point or points in any member state and via intermediate points to any point or points in the United States or beyond; (ii) foreign scheduled and charter air transportation of persons, property, and mail between any point or points in the United States and any point or points in any member of the European Common Aviation Area; (iii) foreign scheduled and charter cargo air transportation between any point or points in the United States and any other point or points; (iv) other charters pursuant to the prior approval requirements set forth in part 212; and (v) transportation authorized by any additional route rights that may be made available to European Union carriers in the future. Alitalia also requests a corresponding exemption to the extent necessary to enable Alitalia to provide the services described above pending issuance of an amendment to its foreign air carrier permit and such other relief as the Department may deem necessary or appropriate.

Docket Number: OST-2006-24355.

Date Filed: July 12, 2007.

Due Date for Answers, Conforming Applications, or Motion to Modify Scope: August 2, 2007.

Description: Application of Amira Air GmbH (“Amira Air”), requesting an exemption and an amended foreign air carrier permit authorizing Amira Air to conduct the following services using small aircraft, in addition to the charter services authorized under its existing foreign air carrier permit: (i) Charter foreign air transportation of persons, property, and mail from any point or points behind any Member State of the European Union, via any point or points in any EU Member State and via intermediate points, to any point or points in the United States and beyond; (ii) charter foreign air transportation of persons, property, and mail between any point or points in the United States and any point or points in any member of the European Common Aviation Area (“ECAA”); (iii) other charters (between non-EU/ECAA third countries and the United States, and otherwise) in accordance with part 212; and (iv) charter transportation authorized by any additional route rights made available to European Community carriers in the future, to the extent permitted by Amira Air's homeland license on file with the Department.

Docket Number: OST-2007-28736.

Date Filed: July 12, 2007.

Due Date for Answers, Conforming Applications, or Motion to Modify Scope: August 2, 2007.

Description: Application of Hi Fly—Transportes Aereos S.A., requesting an initial foreign air carrier permit to provide charter foreign air transportation of persons, property, and mail from points behind Portugal via Portugal and intermediate points to a point or points in the United States and beyond.

Renee V. Wright,
Program Manager, Docket Operations, Federal Register Liaison.

[FR Doc. E7-18572 Filed 9-19-07; 8:45 am]

BILLING CODE 4910-9X-P